ENVIRONMENTAL PROTECTION AGENCY

[FRL-6961-1]

Notice of Proposed Prospective Purchaser Agreement Pursuant to the Comprehensive Environmental Response, Compensation and Liability Act of 1980, as Amended by the Superfund Amendments and Reauthorization Act of 1986

AGENCY: Environmental Protection Agency.

ACTION: Notice; request for public comment.

SUMMARY: Notice is hereby given of a proposed Prospective Purchaser Agreement and Covenant Not To Sue, executed between the United States, on behalf of the U.S. Environmental Protection Agency (“EPA”), and Pulaski Industrial Corporation (“Purchaser”) in accordance with the Comprehensive Environmental Response, Compensation, and Liability Act of 1980, 42 U.S.C. 9601-9675, as amended (“CERCLA”). The proposed agreement will allow reuse of an abandoned industrial facility associated with the Metcoa Radiation Superfund Site (“Site”) in Pulaski, Lawrence County, Pennsylvania, and will resolve certain potential EPA claims under section 107 of CERCLA, 42 U.S.C. 9607, against the Purchaser. The proposed agreement is now subject to public comment, after which the United States may modify or withdraw its consent if comments received disclose facts or circumstances indicating that the proposed agreement is inappropriate, improper or inadequate.

The proposed agreement concerns a 21.74 acre property (“the Property”) located within the approximately 22.5 acre Site. The Property is located on Route 551 and Metallurgical Way, approximately one-half mile north of the center of the village of Pulaski, and Route 208 in Pulaski, Lawrence County, Pennsylvania. The Property formerly was occupied by the Metallurgical Corporation of America, which conducted a metal reclamation business there between 1976 and 1983. Response actions and long term remedial actions have been conducted or overseen by EPA, the Nuclear Regulatory Commission (“NRC”) and the Commonwealth of Pennsylvania at the Site since 1985. In 1997, EPA entered a Consent Decree with 187 parties, requiring them to conduct certain response actions to cleanup the Site. In March 2000, EPA issued a notice of completion to the parties stating that the required response actions had been performed satisfactorily. Under the terms of the proposed agreement, the Purchaser is required to cooperate with and provide access to EPA for any response activities on the Property, and is subject to certain property use restrictions.

For thirty (30) days following the date of publication of this notice, the Agency will receive written comments relating to the proposed agreement. Comments should be submitted to Suzanne Canning, Regional Docket Clerk (3RC00), U.S. Environmental Protection Agency, Region III, 1650 Arch Street, Philadelphia, PA 19103, or by e-mail to canning.suzanne@epa.gov, and should refer to the “Metcoa Radiation Superfund Site—Pulaski Industrial Corp. Prospective Purchaser Agreement” and “EPA Docket No. CERC-PPA-2001-0001.” The proposed agreement and additional background information relating to it may be examined and/or copied at the above EPA office. A copy of the proposed agreement may be obtained by mail from Suzanne Canning at the above address.

FOR FURTHER INFORMATION CONTACT: Humane L. Zia (3RC41), Assistant Regional Counsel, U.S. Environmental Protection Agency, Region III, 1650 Arch Street, Philadelphia, PA 19103; phone: (215) 814-3454.

Dated: March 26, 2001.
Thomas C. Voltaggio,
Acting Regional Administrator, Region III.

[FR Doc. 01-8131 Filed 4-2-01; 8:45 am]

BILLING CODE 6560-50-P